MERIT SYSTEMS PROTECTION BOARD

Notice of Proposed New System of Records Under the Privacy Act of 1974

AGENCY: Merit Systems Protection Board.

ACTION: Notice of New System of Records.

SUMMARY: As required by the Privacy Act of 1974, 5 U.S.C. 552a, the Merit Systems Protection Board (Board) is publishing a notice proposing establishment of a new system of records. This new records system is the Emergency Contact Data Base System. These records are used by Board officials to identify individuals for Board officials to contact in the case of an emergency involving the employee or the employee's office. The information may also be used to contact flexiplace employees working away from Board offices regarding Board mission-related matters.

DATES: This system of records becomes effective as proposed, without further notice, on October 17, 2003, unless comments are received which would result in a contrary determination.

ADDRESSES: Comments may be mailed to the Merit Systems Protection Board, Office of the Clerk of the Board, 1615 M Street, NW., Washington, DC 20419, or faxed to the same address on 202-653-7130. Electronic mail comments may be sent via the Internet to mspb@mspb.gov.

FOR FURTHER INFORMATION CONTACT: Arlin Winefordner, Office of the Clerk of the Board, 202-653-7200.

Dated: August 11, 2003.
Bentley Roberts,
Clerk of the Board.

system name:

MSPB/INTERNAL-9, Emergency Contact Data Base System.

system location:

Financial and Administrative Management, Merit Systems Protection Board (MSPB), 1615 M Street, NW., Washington, DC 20419.

categories of individuals covered by the system:

Employees of MSPB.

categories of records in the system:

The system consists of information about employees of the Board, including: Name, organizational unit, work telephone number(s), home and cellular telephone number(s) and work-at-home schedule for employees working on flexiplace. It will also have the name, address, relationship, home and office telephone number(s), home and office cellular phone number(s), and home and office e-mail address of an individual(s) to contact in the event of a medical or other emergency involving the employee or the employee's office.

authority for maintenance of the system:

5 U.S.C. 1204.

purpose:

These records are used by Board officials to identify individuals for Board officials to contact in the case of an emergency involving the employee or the employee's office. The information may also be used to contact flexiplace employees working away from Board offices regarding Board mission related matters.

routine uses of records maintained in the system, including categories of users and the purpose of such uses:

These records and information in these records may be used:

To locate a person or persons to contact in the event of an emergency involving the individual and/or the employee's office.

To disclose information to another Federal agency, to a court, or a party in litigation before a court, or in an administrative proceeding being conducted by a Federal agency, either when the Government is a party to a judicial proceeding or in order to comply with the issuance of a subpoena.

To disclose pertinent information to the appropriate Federal, State, or local agency responsible for investigation, prosecution, enforcement, or implementation of a statute, rule, regulation, or order, where the Board becomes aware of an indication of a violation or potential violation of civil or criminal law or regulation.

policies and practices for storing, retrieving, accessing, retaining and disposing of records in the system:

storage:

Records are stored in Lotus Notes Domino Server in the HQ computer room, with standard password access security, connected to a local area network and a wide area network serving all offices of the Board.

retrievability:

These records are retrieved by the names of the individuals on whom they are maintained.

safeguards:

Access to these records is limited to persons whose official duties require such access. Records are protected from unauthorized access through password identification procedures and other system-based protection methods.

retention and disposal:

Records in this system are maintained as long as the individual is an employee of the Board. Expired records will be destroyed by deleting.

system manager:

Director, Financial and Administrative Management, Merit Systems Protection Board, 1615 M Street, NW., Washington, DC 20419.

notification procedures:

Individuals wishing to inquire whether this system of records contains information about them should contact the Clerk of the Board and must follow the MSPB Privacy Act regulations at 5 CFR 1205.11 regarding such inquiries.

record access procedures:

Individuals requesting access to their records should contact the Clerk of the Board. Such requests should be addressed to the Clerk of the Board, Merit Systems Protection Board, 1615 M St., NW., Washington, DC 20419. Requests for access to records must follow the MSPB Privacy Act regulations at 5 CFR 1205.11.

contesting record procedures:

MSPB employees may personally amend information in these records at any time. Individuals wishing to request amendment of their records under the provisions of the Privacy Act should contact the system manager. Individuals must furnish the necessary information for their records to be located, identified and updated.

record source categories:

Information is provided by the individual who is the subject of the record.

Merit Systems Protection Board

privacy act statement

The information provided for the Emergency Contact Data Base System is relevant for the Board to maintain accurate information about its employees which is readily available to managers to conduct human resources management functions, and to locate and inform employees. The information collected will be for internal Board use only, unless a violation of local, State, or Federal law occurs which requires its use by law enforcement agencies, or litigation in a court of law requires release of information.

[FR Doc. 03-20827 Filed 8-15-03; 8:45 am]

BILLING CODE 7400-01-U